DEPARTMENT OF TRANSPORTATION

Federal Aviation Administration

14 CFR Part 39

[Docket No. FAA-2015-0242; Directorate Identifier 2014-NM-100-AD; Amendment 39-18240; AD 2015-17-07]

RIN 2120-AA64

Airworthiness Directives; Airbus Airplanes

AGENCY: Federal Aviation Administration (FAA), Department of Transportation (DOT).

ACTION: Final rule.

SUMMARY: We are adopting a new airworthiness directive (AD) for all Airbus Model A300 B4-603, B4-605R, B4-620, B4-622, B4-622R airplanes; all Airbus Model A300 C4-605R Variant F airplanes; and certain Airbus Model A300 F4-605R airplanes. This AD was prompted by the manufacturer's review of all repairs accomplished using the structural repair manual. This review was done using revised fatigue and damage tolerance calculations. This AD requires an inspection of the surrounding panels of the left and right forward passenger doors, and corrective actions if necessary. We are issuing this AD to detect and correct previous incomplete or inadequate repairs to the surrounding panels of the left and right forward passenger doors and the fail-safe ring, which could negatively affect the structural integrity of the airplane.

DATES: This AD becomes effective September 29, 2015.

The Director of the Federal Register approved the incorporation by reference of a certain publication listed in this AD as of September 29, 2015.

ADDRESSES: You may examine the AD docket on the Internet at http://www.regulations.gov/#!docketDetail;D=FAA-2015-0242 or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0242.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to all Airbus Model A300 B4-603, B4-605R, B4-620, B4-622, B4-622R airplanes; all Airbus Model A300 C4-605R Variant F airplanes; and certain Airbus Model A300 F4-605R airplanes. The NPRM published in the Federal Register on February 18, 2015 (80 FR 8566).

The European Aviation Safety Agency (EASA), which is the Technical Agent for the Member States of the European Union, has issued EASA Airworthiness Directive 2014-0101, dated May 2, 2014 (referred to after this as the Mandatory Continuing Airworthiness Information, or “the MCAI”), to correct an unsafe condition for all Airbus Model A300 B4-603, B4-605R, B4-620, B4-622, B4-622R airplanes; all Airbus Model A300 C4-605R Variant F airplanes; and certain Airbus Model A300 F4-605R airplanes. The MCAI states:

In the frame of the Ageing Airplane Safety Rule (AASR), all existing Structural Repair Manual (SRM) repairs were reviewed.

This analysis, which consisted in new Fatigue and Damage Tolerance calculations, revealed that some repairs in the area surrounding the forward passenger/crew door and the fail safe ring are no longer adequate.

These repairs, if not reworked, could affect the structural integrity of the aeroplane.

To address this potential unsafe condition, Airbus issued Service Bulletin (SB) A300-53-6173 (later revised), to provide instructions for the inspection of repairs on the left-hand (LH) and right-hand (RH) forward door surrounding panels.

For the reasons described above, and further to the AASR implementation, this [EASA] AD requires a one-time inspection of the forward door surrounding panels to identify SRM repairs in these areas and, depending on findings, accomplishment of applicable corrective action(s).

Corrective actions include rework or repair.

You may examine the MCAI in the AD docket on the Internet at http://www.regulations.gov/#!documentDetail;D=FAA-2015-0242-0002.

Comments

We gave the public the opportunity to participate in developing this AD. We received no comments on the NPRM (80 FR 8566, February 18, 2015) or on the determination of the cost to the public.

Conclusion

We reviewed the relevant data and determined that air safety and the public interest require adopting this AD as proposed except for minor editorial changes. We have determined that these minor changes:

• Are consistent with the intent that was proposed in the NPRM (80 FR 8566, February 18, 2015) for correcting the unsafe condition; and

• Do not add any additional burden upon the public than was already proposed in the NPRM (80 FR 8566, February 18, 2015).

Related Service Information Under 1 CFR Part 51

Airbus has issued Service Bulletin A300-53-6173, Revision 01, dated February 28, 2014. The service information describes procedures for a one-time detailed of the area surrounding the forward passenger/crew door and the fail safe ring to determine if any repairs have been done, and corrective actions. This service information is reasonably available because the interested parties have access to it through their normal course of business or by the means identified in the ADDRESSES section of this AD.

Costs of Compliance

We estimate that this AD affects 65 airplanes of U.S. registry.

We also estimate that it will take about 120 work-hours per product to comply with the basic requirements of this AD. The average labor rate is $85 per work-hour. Based on these figures, we estimate the cost of this AD on U.S. operators to be $663,000, or $10,200 per product.

In addition, we estimate that any necessary follow-on actions will take up to 730 work-hours and require parts costing up to $72,250, for a cost of up to $134,300 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0242; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-17-07 Airbus: Amendment 39-18240. Docket No. FAA-2015-0242; Directorate Identifier 2014-NM-100-AD.

(a) Effective Date

This AD becomes effective September 29, 2015.

(b) Affected ADs

None.

(c) Applicability

This AD applies to the Airbus airplanes identified in paragraphs (c)(1), (c)(2), and (c)(3) of this AD, certificated in any category.

(1) Model A300 B4-603, B4-605R, B4-620, B4-622, and B4-622R airplanes, all manufacturer serial numbers.

(2) Model A300 C4-605R Variant F airplanes, all manufacturer serial numbers.

(3) Model A300F4-605R airplanes, all manufacturer serial numbers, except those on which Airbus Modification 12699 was embodied in production.

(d) Subject

Air Transport Association (ATA) of America Code 53, Fuselage.

(e) Reason

This AD was prompted by the manufacturer's review of all repairs accomplished using the structural repair manual. This review was done using revised fatigue and damage tolerance calculations. We are issuing this AD to detect and correct previous incomplete or inadequate repairs to the surrounding panels of the left and right forward passenger doors and the fail-safe ring, which could negatively affect the structural integrity of the airplane.

(f) Compliance

Comply with this AD within the compliance times specified, unless already done.

(g) Inspection

At the time specified in paragraph (g)(1) or (g)(2) of this AD, whichever is later: Do a detailed inspection of the surrounding panels of the left and right forward passenger doors to determine if any repairs have been done, in accordance with the Accomplishment Instructions of Airbus Service Bulletin A300-53-6173, Revision 01, dated February 28, 2014.

(1) Prior to the accumulation of 30,000 total flight cycles or 67,500 total flight hours, whichever occurs first.

(2) Within 28 months after the effective date of this AD.

(h) Identification of Repairs

If any affected repair is found during the inspection required by paragraph (g) of this AD: Before further flight, identify the reworked area(s), the percentage of the rework, and the limits of the rework, in accordance with the Accomplishment Instructions of Airbus Service Bulletin A300-53-6173, Revision 01, dated February 28, 2014.

(i) Corrective Actions

During the repair identification required by paragraph (h) of this AD, if any rework is found that is outside the allowable damage limits specified in Airbus Service Bulletin A300-53-6173, Revision 01, dated February 28, 2014: Before further flight, rework or repair, as applicable, using a method approved by the Manager, International Branch, ANM-116, Transport Airplane Directorate, FAA; the European Aviation Safety Agency (EASA); or Airbus's EASA Design Organization Approval (DOA).

(j) Exception to Service Information Specifications

Although Airbus Service Bulletin A300-53-6173, Revision 01, dated February 28, 2014, specifies to contact Airbus for repair instructions, and specifies that action as “RC” (Required for Compliance), this AD requires repair before further flight using a method approved by the Manager, International Branch, ANM-116, Transport Airplane Directorate, FAA; EASA; or Airbus's EASA DOA.

(k) Credit for Previous Actions

This paragraph provides credit for the actions required by paragraphs (g) and (h) of this AD, if those actions were performed before the effective date of this AD using Airbus Service Bulletin A300-53-6173, dated August 1, 2013, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Required for Compliance (RC): Except as required by paragraph (j) of this AD: If any service information contains procedures or tests that are identified as RC, those procedures and tests must be done to comply with this AD; any procedures and tests that are not identified as RC are recommended. Those procedures and tests that are not identified as RC may be deviated from using accepted methods in accordance with the operator's maintenance or inspection program without obtaining approval of an AMOC, provided the procedures and tests identified as RC can be done and the airplane can be put back in a serviceable condition. Any substitutions or changes to procedures or tests identified as RC require approval of an AMOC.

(3) Contacting the Manufacturer: For any requirement in this AD to obtain corrective actions from a manufacturer, the action must be accomplished using a method approved by the Manager, International Branch, ANM-116, Transport Airplane Directorate, FAA; the EASA; or Airbus's EASA DOA. If approved by the DOA, the approval must include the DOA-authorized signature.

(m) Related Information

(1) Refer to Mandatory Continuing Airworthiness Information (MCAI) EASA Airworthiness Directive 2014-0101, dated May 2, 2014, for related information. This MCAI may be found in the AD docket on the Internet at http://www.regulations.gov/#!documentDetail;D=FAA-2015-0242-0002.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-6173, Revision 01, dated February 28, 2014.

(ii) Reserved.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 10, 2015.
Michael Kaszycki,
Acting Manager, Transport Airplane Directorate, Aircraft Certification Service.

[FR Doc. 2015-20585 Filed 8-24-15; 8:45 am]

BILLING CODE 4910-13-P